INTERNATIONAL TRADE COMMISSION

[Investigation Nos. 332-498 and Chile FTA-103-020]

Certain Vegetables and Grape Juice: Probable Economic Effect of Accelerated Tariff Elimination for Certain Goods of Chile

AGENCY: United States International Trade Commission.

ACTION: Institution of investigation and request for written submissions.

SUMMARY: Following receipt of a request on February 11, 2008, from the United States Trade Representative (USTR), as amended by a letter received on February 22, 2008, for an investigation and advice pursuant to section 332(g) of the Tariff Act of 1930 (19 U.S.C. (332(g)) and in accordance with section 103 of the U.S.-Chile Free Trade Agreement Implementation Act (19 U.S.C. 3805 note), the Commission instituted Investigation No. 332-498 and Chile FTA-103-020, Certain Vegetables and Grape Juice: Probable Economic Effect of Accelerated Tariff Elimination for Certain Goods of Chile.

DATES: February 11, 2008: Date of receipt of request, amended by letter received February 22, 2008.

March 7, 2008: Date of institution of investigation.

April 4, 2008: Deadline for written statements.

May 22, 2008: Transmittal of report to the USTR.

ADDRESSES: All Commission offices, including the Commission's hearing rooms, are located in the United States International Trade Commission Building, 500 E Street, SW., Washington, DC. All written submissions and statements should be addressed to the Secretary, United States International Trade Commission, 500 E Street, SW., Washington, DC 20436.

FOR FURTHER INFORMATION CONTACT: Information may be obtained from Timothy McCarty, (202-205-3324 or timothy.mccarty@usitc.gov); for information on the legal aspects, contact William Gearhart of the Commission's Office of the General Counsel (202-205-3091 or william.gearhart@usitc.gov). The media should contact Margaret O'Laughlin, Office of External Relations (202-205-1819 or margaret.olaughlin@usitc.gov). Hearing impaired individuals are advised that information on this matter can be obtained by contacting the TDD terminal on (202-205-1810). General information concerning the Commission may also be obtained by accessing its internet server (http://www.usitc.gov). The public record for this investigation may be viewed on the Commission's electronic docket (EDIS-ONLINE) at http://www.usitc.gov/secretary/edis.htm. Persons with mobility impairments who will need special assistance in gaining access to the Commission should contact the Office of the Secretary at 202-205-2000.

SUPPLEMENTARY INFORMATION: According to the USTR's letter and annex thereto, the President may accelerate the elimination of duties under the United States-Chile Free Trade Agreement (U.S.-Chile FTA) on certain vegetables and grape juice that are qualifying goods of Chile and classified in the tariff items listed below. Duties on these goods would be eliminated on or about January 1, 2009. Section 201(b) of the U.S.-Chile Free Trade Agreement Implementation Act (Act) authorizes the President, subject to the consultation and layover requirements in section 103 of the Act, to proclaim such modifications as the United States may agree to with Chile regarding the staging of any duty treatment set forth in Annex 3.3 of the U.S.-Chile FTA. Section 103 of the Act requires the President to obtain advice regarding the proposed action from the Commission.

The USTR requested that the Commission provide advice as to the probable economic effect of eliminating the U.S. tariff under the U.S.-Chile FTA on domestic industries producing like or directly competitive articles, workers in these industries, and on consumers of the affected goods, on the articles provided for in the following Harmonized Tariff Schedule subheadings: (1) 0710.22.40 (beans, reduced in size); (2) 0710.30.00 (spinach, New Zealand spinach, and orache spinach); (3) 0710.40.00 (sweet corn); (4) 0710.80.97 (vegetables, nesi, uncooked or cooked by steaming or boiling in water, frozen, reduced in size); (5) 0710.90.91 (mixtures of vegetables, nesi, uncooked or cooked by steaming or boiling in water, frozen); (6) 2005.99.80 (artichokes); and (7) 2009.69.00 (grape juice including grape must, other).

As requested, the Commission will provide its advice to the USTR by May 22, 2008. USTR requested that the Commission mark as “confidential” those portions of its report and working papers that contain the Commission's probable economic effect advice. The USTR requested that the Commission, as soon as possible after May 22, issue a public version of its report with portions classified as “confidential” and any confidential business information deleted.

Written Submissions: In lieu of a public hearing, interested parties are invited to submit written statements concerning the matters to be addressed by the Commission in this investigation. Submissions should be addressed to the Secretary, United States International Trade Commission, 500 E Street, SW., Washington, DC 20436. To be assured of consideration by the Commission, written statements should be submitted to the Commission at the earliest practical date and should be received no later than the close of business on April 4, 2008. All written submissions must conform with the provisions of section 201.8 of the Commission's Rules of Practice and Procedure (19 CFR 201.8). Section 201.8 of the rules requires that a signed original (or copy designated as an original) and fourteen (14) copies of each document be filed. In the event that confidential treatment of the document is requested, at least four (4) additional copies must be filed, from which the confidential business information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of this investigation in the report it sends to the USTR and the President. However, the Commission will not publish such confidential business information in the public version of its report in a manner that would reveal the operations of the firm supplying the information.

Issued: March 7, 2008.
By order of the Commission.
Marilyn R. Abbott,
Secretary to the Commission.

[FR Doc. E8-4877 Filed 3-11-08; 8:45 am]

BILLING CODE 7020-02-P